SECURITIES AND EXCHANGE COMMISSION

[Release No. 34-43799; International Series Release No. 1244; File No. SR-Phix-00-111]

Self-Regulatory Organizations; Notice of Filing and Order Granting Accelerated Approval of Proposed Rule Change by the Philadelphia Stock Exchange, Inc. To Amend Temporarily Rule 1063(a) and Options Floor Procedure Advices A-10 and C-1, Which Address Trading in Foreign Currency Options

January 3, 2001.

Correction

In notice document 01-791, beginning on page 2469, in the issue of Thursday, January 11, 2001, make the following correction:

On page 2469, in the second column, the date heading is corrected to read as set forth above.

[FR Doc. C1-791 Filed 2-6-01; 8:45 am]

BILLING CODE 1505-01-D

SECURITIES AND EXCHANGE COMMISSION

[Release No. 34-43846; File No. SR-PCX-00-37]

Self-Regulatory Organizations; Notice of Filing of Proposed Rule Change and Amendment No. 1 by the Pacific Exchange, Inc., To Increase Fines for Members, Floor Brokers and Market Makers for Violating Exchange Rules Under the Minor Rule Plan

Correction

In notice document 01-1971, beginning on page 7526, in the issue of Tuesday, January 23, 2001, make the following correction:

On page 7527, in the first column, under the heading, IV. Solicitation of Comments, the ninth line from the bottom, “[insert date 21 days from the date of publication].” should read “February 13, 2001”.

[FR Doc. C1-1971 Filed 2-6-01; 8:45 am]

BILLING CODE 1505-01-D